DEPARTMENT OF COMMERCE

National Oceanic and Atmospheric Administration

[I.D. 121901A]

Magnuson-Stevens Act Provisions; Atlantic Highly Migratory Species; Exempted Fishing and Scientific Research Permits

AGENCY: National Marine Fisheries Service (NMFS), National Oceanic and Atmospheric Administration (NOAA), Commerce.

ACTION: Issuance of 2002 Exempted Fishing and Scientific Research Permits; request for comments.

SUMMARY: NMFS announces the intent to issue Exempted Fishing Permits (EFPs) and Scientific Research Permits (SRPs) for the collection of Atlantic highly migratory species (HMS). These EFPs/SRPs would authorize collections of a limited number of tunas, swordfish, billfishes, and sharks from Federal waters in the Atlantic Ocean and Gulf of Mexico for the purposes of scientific data collection and public display. Generally, the EFPs will be valid through December 31, 2002. NMFS also announces the intent to issue EFPs upon receiving applications from U.S. fishermen whose vessels fish for Atlantic HMS while operating under contract within the Exclusive Economic Zone of other nations. These EFPs would allow a U.S. fishing vessel to fish so as to be consistent with another country’s regulations without violating U.S. regulations, and would ensure that such vessels report to the proper authorities.

DATES: Written comments on these collection, research and fishing activities will be considered by NMFS in issuing such EFPs/SRPs if received on or before January 28, 2002.

ADDRESSES:

Send comments to Christopher Rogers, Chief, Highly Migratory Species Management Division (F/SF1), NMFS, 1315 East-West Highway, Silver Spring, MD 20910. The EFP/SRP applications and copies of the regulations under which EFPs/SRPs are issued may also be requested from this address. Comments also may be sent via facsimile (fax) to (301) 713-1917. Comments will not be accepted if submitted via e-mail or Internet.

FOR FURTHER INFORMATION CONTACT: Sari Kiraly, 301-713-2347; fax: 301-713-1917.

SUPPLEMENTARY INFORMATION: EFPs and SRPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic HMS.

Issuance of EFPs and/or SRPs may be necessary because possession of certain shark species is prohibited, possession of billfishes on board commercial fishing vessels is prohibited, and because the commercial fisheries for bluefin tuna, swordfish and large coastal sharks may be closed for extended periods, during which collection of live animals and/or biological samples would otherwise be prohibited. In addition, NMFS regulations at 50 CFR 635.32 regarding implantation or attachment of archival tags in Atlantic HMS require prior authorization and a report on implantation activities.

NMFS also seeks public comment on its intention to issue EFPs for the purpose of collecting biological samples under at-sea fisheries observer programs. NMFS intends to issue EFPs to any NMFS or NMFS-approved observer to bring onboard and possess, for scientific research purposes, biological sampling, measurement, etc., any Atlantic swordfish, Atlantic shark, or Atlantic billfish, provided the fish is a recaptured tagged fish, a dead fish prior to being brought onboard, or specifically authorized for sampling by the Director of the Office of Sustainable Fisheries at the request of the Southeast Fisheries Science Center or Northeast Fisheries Science Center. On average, several humdred swordfish and sharks are collected by at-sea observers under such EFPs any given year.

Collection of bluefin tuna would be authorized for scientific research age and growth, genetic, and spawning studies. In 2001, five permits for bluefin tuna archival tagging and research were issued. In 2002, pursuant to the International Commission for the Conservation of Atlantic Tunas (ICCAT) recommendations calling for research that addresses bluefin tuna spawning locations, NMFS intends to issue SRPs and/or EFPs for U.S. participation in an international program that could involve the landing of up to 15 metric tons of bluefin tuna and other regulated HMS for scientific sampling. This would be in addition to SRPs and EFPs issued for other tuna research.

In 2001 NMFS issued one EFP allowing commercial fishing vessels to assist NOAA scientists, and one SRP involving NOAA research vessels, in order that experiments in the Northeast Distant Waters of Grand Banks and in the DeSoto Canyon area of the Gulf of Mexico, respectively, could be conducted. These experiments addressed gear modifications to reduce bycatch in the Atlantic HMS pelagic longline fisheries.

NMFS also intends to continue to issue EFPs to vessel operators requesting offloading windows in the Atlantic Swordfish fishery, in the event the swordfish fishery is closed and a vessel is not equipped with a vessel monitoring system that would enable it to remain at sea after the announced closure date. NMFS anticipates that commercial EFP applicants would be captains of larger vessels out on extended trips at the time of a closure announcement. These applicants would benefit from delayed offloading by avoiding market gluts and cold storage problems.

NMFS also seeks public comment on its intention to issue EFPs for distant water pelagic longline vessels for the purpose of expanding access of U.S. vessels into other markets while continuing to collect information about U.S. fishing effort and landings. NMFS would consider applications from any U.S. Atlantic pelagic longline vessel. NMFS intends to issue such EFPs to any U.S. vessel fishing under contract to another nation, provided its landings and discards are consistent with ICCAT recommendations and, due to the requirements of the contract, those landings are being reported to ICCAT by that other nation or otherwise appropriately accounted for.

NMFS is also seeking public comment on its intention to issue EFPs for the collection of restricted species of sharks for the purpose of public display. In the Final Fishery Management Plan for Atlantic Tunas, Swordfish and Sharks (HMS FMP), NMFS established a public display quota of 60 metric tons wet weight for this purpose. NMFS has preliminarily determined that up to 3,000 sharks could be taken with this current quota and such harvest would be consistent with the most recent environmental impact statement prepared for this fishery. NMFS believes that harvesting this amount for public display will have a minimal impact on the stock. In 2001, nine EFPs were issued for the collection of sharks for display purposes.

Generally, the authorized collections or exemptions would involve activities otherwise prohibited by regulations implementing the HMS FMP and Amendment 1 to the Atlantic Billfish Fishery Management Plan. The EFPs, if issued, may authorize recipients to fish for and possess tunas, billfishes, swordfish and sharks outside the applicable Federal commercial seasons, size limits and retention limits, or to fish for and possess prohibited species.

NMFS intends to undertake rulemaking to revise certain aspects of the procedures for issuing EFPs and complying with EFP requirements for Atlantic HMS. Permits may be issued under the current regulations and be valid until new regulations become effective, at which time revised permits may be issued. A final decision on issuance of any EFPs/SRPs will depend on the submission of all required information about the proposed activities, NMFS' review of public comments received on this notice, conclusions in the Final Environmental Impact Statement (EIS) and any subsequent Environmental Assessments (EAs) or EISs contained in the Final HMS FMP (64 FR 13575; March 19, 1999) and any consultations with any appropriate Regional Fishery Management Councils, states, or Federal agencies. NMFS does not anticipate any environmental impacts from the issuance of these EFPs other than impacts already assessed in the Final HMS FMP and subsequent EAs.

Authority: 16 U.S.C. 971 et seq. and 16 U.S.C. 1801 et seq.

Dated: January 7, 2002.
Jonathan M. Kurland,
Acting Director, Office of Sustainable Fisheries, National Marine Fisheries Service.

[FR Doc. 02-780 Filed 1-10-02; 8:45 am]

BILLING CODE 3510-22-S